DEPARTMENT OF HEALTH AND HUMAN SERVICES

Food and Drug Administration

[Docket No. FDA-2011-N-0769]

Notice of Listing of Members of the Food and Drug Administration's Senior Executive Service Performance Review Board

AGENCY: Food and Drug Administration, HHS.

ACTION: Notice.

SUMMARY: The Food and Drug Administration (FDA) is publishing a list of members who may be named to serve on FDA's Senior Executive Performance Review Board or Panels, which oversee the evaluation of performance appraisals of FDA's Senior Executive Service (SES) members. The Civil Service Reform Act of 1978 requires that the appointment of Performance Review Board Members be published in the Federal Register.

FOR FURTHER INFORMATION CONTACT: Mary Wathen, Office of Management Programs, Food and Drug Administration, 10903 New Hampshire Ave., Bldg. 1, rm. 4310, Silver Spring, MD 20993, (301) 796-8848.

SUPPLEMENTARY INFORMATION: The Civil Service Reform Act of 1978 (5 U.S.C. 4314(c)(4)) (Public Law 95-454) requires that the appointment of Performance Review Board Members be published in the Federal Register. The following persons may be named to serve on FDA's Performance Review Board or Panels.

SES | Non-SES
Jeanne Anson | Dennis Baker
Deborah Autor | Norman Baylor
Jane Axelrad | Nega Beru
Lawrence Bachorik | Gail Costello
Glenda Barfell | Lawrence Deyton
Catherine Beck | Bernadette Dunham
Susan Bernard | Ted Elkin
Malcolm Bertoni | Jeff Farrar
Eric Blumberg | William Flynn
Beverly Chernaik | Christy Foreman
Dara Corrigan | Malcolm Frazier
Kathleen Crosby | Alberto Gutierrez
L'Tonya Davis | Sheryl Lard-Whiteford
David Elder | Murray Lumpkin
Denise Esposito | William Maisel
Tracy Forfa | Karen Midthun
Lillian Gill | Ellen Morrison
Deborah Henderson | Steven Musser
Kimberly Holden | Steven Pollack
Jeanne Ireland | Jonathan Sackner-Bernstein
Melanie Keller | Barbara Schneeman
Michael Landa | Rachel Sherman
Caroline Lewis | Jeffrey Shuren
Eric Lindblom | Ann Simoneau
Mary Anne Malarkey | William Slikker
Diane Maloney | Steven Solomon
Daniel McChesney | Stephen Spielberg
William McConagha | Roberta Wagner
Patrick McGarey | David White
Ruth McKee | Carolyn Wilson
Alfred R. Miller | Janet Woodcock
Theresa Mullin | Robert Yetter
Deanna Murphy | Donald Zink
Melinda Plaisier |
Lynne Rice |
Mark Roh |
James Sigg |
Steven Silverman |
Howard Sklamberg |
Philip Spiller |
Nancy Stade |
John Taylor |
Michael Taylor |
Brian Trent |
Mary Lou Valdez |
Steven Vaughn |
Stephen Veneruso |
Helen Winkle |
Ann Wion |

Dated: December 1, 2011.
Margaret A. Hamburg,
Commissioner of Food and Drugs.

[FR Doc. 2011-31579 Filed 12-8-11; 8:45 am]

BILLING CODE 4160-01-P